DEPARTMENT OF HEALTH AND HUMAN SERVICES

National Institutes of Health

National Center for Advancing Translational Sciences; Notice of Online Forum

AGENCY: National Institutes of Health, HHS.

ACTION: Notice.

SUMMARY: The National Center for Advancing Translational Sciences (NCATS) will host a public online forum to enable public discussion of the Center's proposals to reorganize its Office of Rare Diseases Research and Office of Grants Management and Scientific Review to the Division of Rare Diseases Innovation and the Division of Extramural Activities, respectively. The proposals seek to recognize the importance of rare diseases research to the Center and to align its extramural activities with those of other Institutes and Centers at the National Institutes of Health. The online forum will allow members of the public to review the reorganization proposals and submit comments.

DATES: The public online forum will become available on January 24, 2022 and will remain open for five calendar days, through January 29, 2022.

ADDRESSES: The public forum will be held online, at https://ncats.nih.gov/about/center/proposed-reorganization for the period of time listed above.

FOR FURTHER INFORMATION CONTACT: Christopher Maurer, Management Analyst, National Center for Advancing Translational Sciences, NIH, christopher.maurer2@nih.gov or 301-827-7280.

SUPPLEMENTARY INFORMATION: The NIH Reform Act of 2006 (42 U.S.C. Sec. 281(d)(4)) requires public notice of proposed reorganization plans. This announcement and the public forum serve as that notice.

Keith R. Lamirande,
Executive Officer, National Center for Advancing Translational Sciences.

[FR Doc. 2021-28415 Filed 12-30-21; 8:45 am]

BILLING CODE 4140-01-P